NATIONAL SCIENCE FOUNDATION

Advisory Committee for International Science and Engineering; Notice of Meeting

In accordance with the Federal Advisory Committee Act (Pub. L. 92-463, as amended), the National Science Foundation (NSF) announces the following meeting:

Name and Committee Code: Advisory Committee for International Science and Engineering Meeting (AC-ISE) (#25104).

Date and Time: Thursday, June 18, 2020; 10:00 a.m. to 5:30 p.m. (EDT).

Connect to the Virtual Meeting: The AC-ISE meeting is fully virtual. Participants are required to process the meeting registration via Zoom. See below for details:

Register in advance for the meeting at the Zoom attendee registration link: https://nsf.zoomgov.com/webinar/register/WN_Mcyz56Y2RISQSizK8DtK0g. After registering, you will receive a confirmation email with a unique link to join the meeting.

If you have any login questions, please contact Kirk Grabowski, OISE IT Specialist, kgrabows@associates.nsf.gov).

Type of Meeting: Open.

Contact Person: Christopher Street, National Science Foundation, 2415 Eisenhower Avenue, Room W-17220, Alexandria, Virginia 22314; Telephone: 703-292-8568.

Purpose of Meeting: To provide advice, recommendations and counsel on major goals and policies pertaining to international programs and activities.

Agenda

• Updates on OISE activities

• Briefing on MULTIPLIER Czech Republic Multiplier/MULTIPLIER Moving Forward

• Update on Science and Security

• NSF's COVID-19 Response

• COVID-19 and International Engagement

• Update on International Research Experiences for Students (IRES) Program

• Meet with NSF leadership

Dated: May 18, 2020.
Crystal Robinson,
Committee Management Officer.

[FR Doc. 2020-11007 Filed 5-20-20; 8:45 am]

BILLING CODE 7555-01-P